NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for operation of a field research camp located in ASPA #149-Cape Shirreff, Livingston Island by the Antarctic Marine Living Resources (AMLR) Program, Southwest Fisheries Science Center, La Jolla, CA. The application is submitted to NSF pursuant to regulations issued under the Antarctic Conservation Act of 1978.

DATES: Interested parties are invited to submit written data, comments, or views with respect to this permit application within September 21, 2011. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for operation of remote research field camp at ASPA #149 Cape Shirreff, Livingston Island. The camp consists of four structures on the beach between Llano Point and Sphinx Hill which has been in use during the summer since 1977. The camp is used to house researchers (typically 6 people), provide a base of research operations, and allow laboratory studies. Biological investigation of seabirds and pinnipeds is the primary research conducted from the camp.

Designated pollutants would be associated with camp operations [typically air emissions and waste water (urine, grey-water, and human solid waste)] and scientific activities (typically research materials). All wastes would be packaged and removed from the site for proper disposal in Chile or the U.S. under approved guidelines prior to the end of each season.

In addition, the AMLR Program conducts 30-90 days of vessel operations in the Antarctic Peninsula region. The vessel follows a standardized survey grid, and depending on the focus any given year, additional smaller sections of the region are surveyed. During annual surveys, the Program deploys drifters and expendable bathythermographs (XBT's) to collect hydrographic data. In addition to drifters and XBT's, the AMLR Program also deploys and recovers a variety of gear that are not intentionally released into the environment:

(1) Conductivity-Temperature-Depth profilers (CTD's) are lowered to collect water in attached PCV bottles. Due to storms or heavy waves the bottles can be broken and release plastic into the ocean.

(2) Fishing nets: (a) Plankton nets come in a variety of configurations and sizes. The Program has lost a net ad frame once every 3-5 years. (B) Commercial bottom trawl nets are deployed every two to three years. Due to the submarine terrain being volcanic, ice scoured and highly variable in makeup, trawls can be lost if the trawl is snagged on boulders or rock outcroppings.

(3) Other gears: Towed or undulating instruments (e.g. Continuous plankton recorder, Winged Optical Particle Counters, towed Current profilers) can be lost. In many cases these instruments, if lost are buoyant, and can be recovered. In other cases, the instruments are heavy, and made of mostly metal and sink in the rather deep water surrounding the Antarctic Continent.

The permit applicant is: George Watters, Director, US AMLR Program, Southwest Fisheries Service, NOAA, 8604 La Jolla Shores Drive, La Jolla, CA 92037 Permit application No. 2012 WM-001.

Nadene G. Kennedy,
Permit Officer.

[FR Doc. 2011-21295 Filed 8-19-11; 8:45 am]

BILLING CODE 7555-01-P